DEPARTMENT OF AGRICULTURE

Forest Service

Notice of Sanders County Resource Advisory Committee Meeting

AGENCY: Forest Service, USDA.

ACTION: Notice of meeting.

SUMMARY: Pursuant to the authorities in the Forest Advisory Committee Act (Pub. L. 92-463) and under the Secure Rural Schools and Community Self-Determination Act of 2000 (Pub. L. 106-393) the Lolo and Kootenai National Forests' Sanders County Resource Advisory Committee will meet on October 10 at 6:30 p.m. in Thompson Falls, Montana for a business meeting. The meeting is open to the public.

DATES: October 10, 2002.

ADDRESSES: The meeting will be held at the Thompson Falls Courthouse, 1111 Main Street, Thompson Falls, MT 59873.

FOR FURTHER INFORMATION CONTACT: Lisa Krueger, Designated Forest Official (DFO), District Ranger Plains/Thompson Falls District, Lolo National Forest at (406) 826-4321, or Brian Avery, District Ranger Cabinet Ranger District, Kootenai National Forest at (406) 827-3533.

SUPPLEMENTARY INFORMATION: Agenda topics include reviewing project proposals and receiving public comment. If the meeting location is changed, notice will be posted in the local newspaper, including the Clark Fork Valley Press, Sanders County Ledger, Daily Interlake, Missoulian, and River Journal.

Dated: September 18, 2002.
Lisa Krueger,
Designated Federal Official, District Ranger, Plains/Thompson Falls Ranger District.

[FR Doc. 02-24304 Filed 9-24-02; 8:45 am]

BILLING CODE 3410-11-M